DEPARTMENT OF THE INTERIOR

National Park Service

[NPS-WASO-NAGPRA-22826; PPWOCRADN0-PCU00RP14.R50000]

Notice of Inventory Completion: Department of Anthropology at Indiana University, Bloomington, IN

AGENCY: National Park Service, Interior.

ACTION: Notice.

SUMMARY: The Department of Anthropology at Indiana University has completed an inventory of human remains in consultation with the appropriate Indian tribes or Native Hawaiian organizations, and has determined that there is no cultural affiliation between the human remains and any present-day Indian tribes or Native Hawaiian organizations. Representatives of any Indian tribe or Native Hawaiian organization not identified in this notice that wish to request transfer of control of these human remains should submit a written request to the Indiana University NAGPRA Office. If no additional requestors come forward, transfer of control of the human remains to the Indian tribes or Native Hawaiian organizations stated in this notice may proceed.

DATES: Representatives of any Indian tribe or Native Hawaiian organization not identified in this notice that wish to request transfer of control of these human remains should submit a written request with information in support of the request to the Indiana University NAGPRA Office at the address in this notice by March 27, 2017.

ADDRESSES: Dr. Jayne-Leigh Thomas, NAGPRA Director, Indiana University, NAGPRA Office, Student Building 318, 701 East Kirkwood Avenue, Bloomington, IN 47405, telephone (812) 856-5315, email thomajay@indiana.edu.

SUPPLEMENTARY INFORMATION: Notice is here given in accordance with the Native American Graves Protection and Repatriation Act (NAGPRA), 25 U.S.C. 3003, of the completion of an inventory of human remains under the control of the Department of Anthropology at Indiana University, Bloomington, IN.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by Indiana University professional staff in consultation with representatives of the Lummi Tribe of the Lummi Reservation; Samish Indian Nation (previously listed as the Samish Indian Tribe, Washington); Stillaguamish Tribe of Indians of Washington (previously listed as the Stillaguamish Tribe of Washington); and Swinomish Indian Tribal Community (previously listed as the Swinomish Indians of the Swinomish Reservation of Washington). The following tribes were contacted but did not participate in consultations: Confederated Tribes of the Chehalis Reservation; Cowlitz Indian Tribe; Jamestown S'Klallam Tribe; Lower Elwha Tribal Community (previously listed as the Lower Elwha Tribal Community of the Lower Elwha Reservation, Washington); Makah Indian Tribe of the Makah Indian Reservation; Muckleshoot Indian Tribe (previously listed as the Muckleshoot Indian Tribe of the Muckleshoot Reservation, Washington); Nisqually Indian Tribe (previously listed as the Nisqually Indian Tribe of the Nisqually Reservation, Washington); Nooksack Indian Tribe; Puyallup Tribe of the Puyallup Reservation; Quileute Tribe of the Quileute Reservation; Quinault Indian Nation (previously listed as the Quinault Tribe of the Quinault Reservation, Washington); Sauk-Suiattle Indian Tribe; Shoalwater Bay Indian Tribe of the Shoalwater Bay Indian Reservation (previously listed as the Shoalwater Bay Tribe of the Shoalwater Bay Indian Reservation, Washington); Skokomish Indian Tribe (previously listed as the Skokomish Indian Tribe of the Skokomish Reservation, Washington); Snoqualmie Indian Tribe (previously listed as the Snoqualmie Tribe, Washington); Squaxin Island Tribe of the Squaxin Island Reservation; Suquamish Indian Tribe of the Port Madison Reservation; Tulalip Tribes of Washington (previously listed as the Tulalip Tribes of the Tulalip Reservation, Washington); and Upper Skagit Indian Tribe (hereinafter referred to as “The Invited and Consulted Tribes”). Due to the ambiguity of the region listed as the “Northwest Coast,” consultation efforts were extended to tribal communities in the coastal areas of Washington State.

History and Description of the Remains

On an unknown date, human remains representing, at minimum, one individual were removed from an unknown location along the “Northwest Coast.” This individual was transferred to Indiana University from the University of Chicago during the 1950s along with four other individuals. Notes with these four individuals indicated they were likely collected from the Anacortes area of Washington State. The boxes are recorded as having been previously from the University of Washington; however, efforts in collaboration with NAGPRA personnel at the University of Washington have failed to locate additional information regarding the collection's presence at the University of Washington and its subsequent transfer to the University of Chicago. No known individuals were identified. No associated funerary objects are present.

The four individuals were transferred to the Lummi Tribe of the Lummi Reservation in summer of 2016. Through consultation, it was decided that this individual should be transferred with the other four individuals, as it is likely that they were collected together from the same location.

Determinations Made by the Department of Anthropology at Indiana University

Officials of the Department of Anthropology at Indiana University have determined that:

• Pursuant to 25 U.S.C. 3001(9), the human remains described in this notice are Native American based on osteological evidence and collection history.

• Pursuant to 25 U.S.C. 3001(9), the human remains described in this notice represent the physical remains of one individual of Native American ancestry.

• Pursuant to 25 U.S.C. 3001(2), a relationship of shared group identity cannot be reasonably traced between the Native American human remains and any present-day Indian tribe.

• On January 22, 1855, the Point Elliot Treaty was signed by representatives from the Lummi Tribe of the Lummi Reservation, Muckleshoot Indian Tribe (previously listed as the Muckleshoot Indian Tribe of the Muckleshoot Reservation, Washington), Nooksack Indian Tribe, Samish Indian Nation (previously listed as the Samish Indian Tribe, Washington), Sauk-Suiattle Indian Tribe, Snoqualmie Indian Tribe (previously listed as the Snoqualmie Tribe, Washington), Stillaguamish Tribe of Indians of Washington (previously listed as the Stillaguamish Tribe of Washington), Suquamish Indian Tribe of the Port Madison Reservation, Swinomish Indian Tribal Community (previously listed as the Swinomish Indians of the Swinomish Reservation of Washington), Tulalip Tribes of Washington (previously listed as the Tulalip Tribes of the Tulalip Reservation, Washington), and the Upper Skagit Tribe (hereinafter referred to as “The Aboriginal Land Tribes”). The Point Elliot Treaty established an agreement between the United States Government and The Aboriginal Land Tribes for lands in western Washington. The lands around Anacortes, WA from which the Native American human remains were removed were a part of the aboriginal lands ceded by the Point Elliot Treaty.

• Pursuant to 43 CFR 10.11(c)(1), the disposition of the human remains may be to The Aboriginal Land Tribes.

Additional Requestors and Disposition

Representatives of any Indian tribe or Native Hawaiian organization not identified in this notice that wish to request transfer of control of these human remains should submit a written request with information in support of the request to Dr. Jayne-Leigh Thomas, NAGPRA Director, Indiana University, NAGPRA Office, Student Building 318, 701 East Kirkwood Avenue, Bloomington, IN 47405, telephone (812) 856-5315, email thomajay@indiana.edu, by March 27, 2017. After that date, if no additional requestors have come forward, transfer of control of the human remains to The Aboriginal Land Tribes may proceed.

Indiana University is responsible for notifying The Invited and Consulted Tribes that this notice has been published.

Dated: January 30, 2017.
Melanie O'Brien,
Manager, National NAGPRA Program.

[FR Doc. 2017-03619 Filed 2-23-17; 8:45 am]

BILLING CODE 4312-52-P